DEPARTMENT OF THE INTERIOR

National Park Service

[NPS-WASO-NRNHL-DTS#-26087; PPWOCRADI0, PCU00RP14.R50000]

National Register of Historic Places; Notification of Pending Nominations and Related Actions

AGENCY: National Park Service, Interior.

ACTION: Notice.

SUMMARY: The National Park Service is soliciting comments on the significance of properties nominated before July 14, 2018, for listing or related actions in the National Register of Historic Places.

DATES: Comments should be submitted by August 15, 2018.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before July 14, 2018. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

IDAHO

Idaho County

Butts Point Creek Fire Lookout, Approx. 40 mi. NE of Salmon, ID Salmon vicinity, SG100002786

MARYLAND

Frederick County

Mason and Dixon West Line Milestone Markers 76 and 77, 716 Mason Dixon Rd., Harney vicinity, SG100002789

MASSACHUSETTS

Suffolk County

Benjamin Silverman Apartments, 50-52 Lorne & 4 Wilson Sts., Boston, SG100002790

MISSOURI

Clay County

Boarding House District

(Excelsior Springs, Missouri MPS), 401-608 Benton, 339-436 E Broadway, 201-223 S Francis, 105 Haynes, 309-526 Isley, 101 Linden, 110-112 Perry, 103-305 Saratoga, 000-213 Temple

Excelsior Springs, MP100002791

Jackson County

Crown Center Hotel, 1 E Pershing St., Kansas City, SG100002793

St. Louis Independent City

Jefferson—Cass Health Center, 1421 N Jefferson Ave., St. Louis, SG100002792

NORTH CAROLINA

Beaufort County

U.S. ARMY GUNBOAT PICKET (screw steamer)

(Eastern North Carolina Civil War Shipwrecks, 1861-1865 MPS), Address Restricted, Washington vicinity, MP100002796

Bertie County

Broad Creek Block Ships

(Eastern North Carolina Civil War Shipwrecks, 1861-1865 MPS), Address Restricted, Plymouth vicinity, MP100002797

U.S.S. BAZELY (tugboat)

(Eastern North Carolina Civil War Shipwrecks, 1861-1865 MPS), Address Restricted, Jamesville vicinity, MP100002798

Camden County

C.S.S. BLACK WARRIOR (two-masted schooner)

(Eastern North Carolina Civil War Shipwrecks, 1861-1865 MPS), Address Restricted, Elizabeth City, MP100002799

SCUPPERNONG (two-masted schooner)

(Eastern North Carolina Civil War Shipwrecks, 1861-1865 MPS), Address Restricted, Shawboro vicinity, MP100002800

Craven County

U.S.S. UNDERWRITER (side-wheel steamer)

(Eastern North Carolina Civil War Shipwrecks, 1861-1865 MPS), Address Restricted, New Bern vicinity, MP100002801

Dare County

C.S.S. CURLEW (side-wheel steamer)

(Eastern North Carolina Civil War Shipwrecks, 1861-1865 MPS), Address Restricted, Mann's Harbor vicinity, MP100002802

Edgecombe County

C.S.S. COL. HILL (side-wheel steamer)

(Eastern North Carolina Civil War Shipwrecks, 1861-1865 MPS), Address Restricted, Tarboro vicinity, MP100002803

Martin County

U.S.S. OTSEGO (side-wheel gunboat)

(Eastern North Carolina Civil War Shipwrecks, 1861-1865 MPS), Address Restricted, Jamesville vicinity, MP100002804

Pitt County

Chicod Creek Wreck

(Eastern North Carolina Civil War Shipwrecks, 1861-1865 MPS), Address Restricted, Grimesland, MP100002805

Washington County

U.S.S. SOUTHFIELD (side-wheel ferryboat)

(Eastern North Carolina Civil War Shipwrecks, 1861-1865 MPS), Address Restricted, Plymouth, MP100002806

SOUTH DAKOTA

Buffalo County

Long View Stock Farm, 22182 361st Ave. Gann Valley vicinity, SG100002808

Hyde County

Hyde County Memorial Auditorium, 200 2nd St. SW, Highmore, SG100002809

WASHINGTON

Okanogan County

Fort Okanogan Interpretive Center, 14379 US 17, Brewster, SG100002814

WISCONSIN

Dane County

Hoyt, Frank W, Park, 3902 Regent St., 90 & 91 Owen Pkwy., Madison, SG100002815

A request for removal has been made for the following resources:

IOWA

Delaware County

Coffin's Grove Stagecoach House, 3 mi. W of Manchester, Manchester vicinity, OT75000681

Woodbury County

Florence Crittenton Home and Maternity Hospital, 1105-1111 28th St., Sioux City, OT00000306

Additional documentation has been received for the following resources:

NEW YORK

Albany County

St. Agnes Cemetery, 48 Cemetery Ave., Menands, AD08000095

TENNESSEE

Williamson County

Franklin Historic District, (Williamson County MRA (AD)), Centered around Main St. (TN 96) and 3rd Ave. (U.S. 31), Franklin, AD72001254

Authority: Section 60.13 of 36 CFR part 60.

Dated: July 19, 2018.
Christopher Hetzel,
Acting Chief, National Register of Historic Places/National Historic Landmarks Program.

[FR Doc. 2018-16268 Filed 7-30-18; 8:45 am]

BILLING CODE 4312-52-P